DEPARTMENT OF THE INTERIOR

Bureau of Land Management

[LLORV00000. L10200000. DF0000. LXSSH1040000. 17XL1109AF. HAG 17-0057]

Notice of Public Meetings for the John Day-Snake Resource Advisory Council

AGENCY: Bureau of Land Management, Interior.

ACTION: Notice of public meeting.

SUMMARY: In accordance with the Federal Land Policy and Management Act and the Federal Advisory Committee Act of 1972, and the U.S. Department of the Interior, Bureau of Land Management (BLM), the John Day-Snake Resource Advisory Council (RAC) will meet as indicated below.

DATES: The John Day-Snake RAC will hold a meeting Thursday and Friday, January 26 and 27, 2017. The meeting will be held at the TownePlace Suites in Bend, Oregon. The meeting will run from noon to 5 p.m. on January 26, and from 8 a.m. to noon on January 27.

FOR FURTHER INFORMATION CONTACT: Lisa Clark, Public Affairs Specialist, BLM Prineville District Office, 3050 NE. 3rd Street, Prineville, OR 97754, phone 541-473-6218, or email lmclark@blm.gov. Persons who use a telecommunications device for the deaf (TDD) may call the Federal Relay Service at 1(800) 877-8339 to contact the above individual during normal business hours. The service is available 24 hours a day, 7 days a week, to leave a message or question with the above individual. You will receive a reply during normal business hours.

SUPPLEMENTARY INFORMATION: The John Day-Snake RAC consists of 15 members, chartered and appointed by the Secretary of the Interior. Their diverse perspectives are represented in commodity, conservation, and general interests. They provide advice to BLM and Forest Service resource managers regarding management plans and proposed resource actions on public land in central and eastern Oregon. Agenda items for the meeting include a discussion on fees associated with the Deschutes River, recruitment of a grazing representative, and discussion about forming a Snake River collaborative group.

All meetings are open to the public. Information to be distributed to the John Day-Snake RAC is requested prior to the start of each meeting. A public comment period will be offered on January 27, 2017, from 10:30 a.m. to 11 a.m. Unless otherwise approved by the John Day-Snake RAC Chairs, the public comment period will last no longer than 30 minutes. Each speaker may address the John Day-Snake RAC for a maximum of five minutes. The public may call in at 866-650-5651 and listen to the meeting and participate during public comment by using participant code: 3696961.

Meeting times and the duration scheduled for public comment periods may be extended or altered when the authorized representative considers it necessary to accommodate business and all who seek to be heard regarding matters before the John Day-Snake RAC.

Shane DeForest,
Acting Vale District Manager.

[FR Doc. 2017-00661 Filed 1-12-17; 8:45 am]

BILLING CODE 4310-33-P